DEPARTMENT OF DEFENSE

Office of the Secretary

[DoD-2007-OS-0137]

Defense Transportation Regulation, Part IV

AGENCY: Department of Defense; United States Transportation Command (USTRANSCOM).

ACTION: Notice.

SUMMARY: The Department of Defense has published Phase II Interim Final Business Rules for the Families First Personal Property Program in the Defense Transportation Regulation (DTR) Part IV (DTR 4500.9R). These Phase II Business Rules, Appendix U with eight Attachments, are available on the USTRANSCOM Web site at http://www.transcom.mil/j5/pt/dtr_part_iv.cfm, with two execution-type Attachments listed on the Surface Deployment and Distribution Command (SDDC) Web site at http://www.sddc.army.mil/Public/Personal%20Property/Families%20First/Phase%20II/Business%20Rules%20Attachments? summary=fullcontent.

The business rules outline how the Department of Defense will manage the movement of personal property using primarily commercial resources.

DATES: Comments must be received on or before 30 March 2008. Do not submit comments directly to the point of contact or mail your comments to any address other that what is shown below. Doing so will delay the posting of the submission. You may submit comments, identified by docket number and or RIN number and title, by any of the following methods:

• Federal eRulemaking Portal: http://www.regulations.gov. Follow the instructions for submitting comments.

• Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://regulations.gov as they are received without change, including any personal identifiers or contact information.

FOR FURTHER INFORMATION CONTACT: Mr. Jim Teague, United States Transportation Command, TCJ5/4-PT, 508 Scott Drive, Scott Air Force Base, IL 62225-5357; (618) 229-1985 or Ms. Rosia Lindsey, Surface Deployment and Distribution Command, SDDC-PPP-OPS, 709 Ward Drive, Bldg 1990, Scott Air Force Base, IL 62225; (618) 220-5484.

SUPPLEMENTARY INFORMATION: Request comments be submitted in “Word Document Format” as indicated above. In furtherance of DOD's goal to develop and implement an efficient personal property program to facilitate quality movements of personal property for our military members and civilian employees, Phase II Business Rules were developed in concert with the Military Services, SDDC and industry. The following Phase II Business Rules are available for review and comment:

Appendix U—Phase II Families First (USTRANSCOM Web site).

Attachment UA—Electronic Billing (USTRANSCOM Web site).

Attachment UE—Minimum Performance Score (USTRANSCOM Web site).

Attachment UF—Best Value Score (USTRANSCOM Web site).

Attachment UG—TSP Ranking (USTRANSCOM Web site).

Attachment UH—Customer Satisfaction Survey (USTRANSCOM Web site).

Attachment UJ—Shipment Management (USTRANSCOM Web site).

Attachment UQ—Quality Assurance (USTRANSCOM Web site).

Attachment UR—Families First Tender of Service (USTRANSCOM Web site).

Attachment C—TSP Qualification (SDDC Web site).

Attachment D—Rate Filing Document (SDDC Web site).

Any subsequent modification(s) to the business rules will be published in the Federal Register and incorporated into the Defense Transportation Regulation (DTR) Part IV (DTR 4500.9R). These program requirements do not impose a legal requirement, obligation, sanction or penalty on the public sector, and will not have an economic impact of $100 million or more.

Additional Information

In addition, the following final business rules are available on http://www.sddc.army.mil/Public/Personal%20Property/Families%20First/Phase%20II/Business%20Rules%20Attachments? summary=fullcontent

Attachment K—International Tender.

Attachment L—400NG Domestic Tariff.

A complete version of the DTR is available via the internet on the USTRANSCOM homepage at http://www.transcom.mil/j5/pt/dtr_part_iv.cfm.

Dated: March 26, 2008.
L.M. Bynum,
Alternate OSD Federal Register Liaison Officer, DoD.

[FR Doc. E8-6660 Filed 3-31-08; 8:45 am]

BILLING CODE 5001-06-P